COUNCIL ON ENVIRONMENTAL QUALITY

[CEQ-2022-0001]

Carbon Capture, Utilization, and Sequestration Guidance

AGENCY: Council on Environmental Quality (CEQ).

ACTION: Notice of availability; request for comments; extension of comment period.

SUMMARY: On February 16, 2022, the Council on Environmental Quality (CEQ) published a notice announcing the availability of and seeking comment on an interim guidance document, “Carbon Capture, Utilization, and Sequestration Guidance.” CEQ is extending the comment period on the notice, which was scheduled to close on March 18, 2022, for 31 days until April 18, 2022.

DATES: Comments should be submitted on or before April 18, 2022.

ADDRESSES: You may submit comments, identified by docket number CEQ-2022-0001, by any of the following methods:

• Federal eRulemaking Portal: https://www.regulations.gov. Follow the instructions for submitting comments.

• Fax: (202) 456-6546.

• Mail: Council on Environmental Quality, 730 Jackson Place NW, Washington, DC 20503.

Instructions: All submissions received must include the agency name, “Council on Environmental Quality,” and docket number, CEQ-2022-0001. All comments received will be posted without change to https://www.regulations.gov, including any personal information provided. Do not submit electronically any information you consider to be private, Confidential Business Information (CBI), or other information, the disclosure of which is restricted by statute.

Docket: For access to the docket to read background documents or comments received, go to https://www.regulations.gov.

FOR FURTHER INFORMATION CONTACT: Amy B. Coyle, Deputy General Counsel, 730 Jackson Place NW, Washington, DC 20503, (202) 395-5750 or Amy.B.Coyle@ceq.eop.gov.

SUPPLEMENTARY INFORMATION: On February 16, 2022, CEQ published a notice in the Federal Register (87 FR 8808) announcing the availability of and seeking comment on an interim guidance document, “Carbon Capture, Utilization, and Sequestration Guidance,” to assist Federal agencies with the regulation and permitting of CCUS activities in the United States. The original deadline to submit comments was March 18, 2022. This action extends the comment period for 31 days to ensure the public has sufficient time to review and comment on the notice. CEQ is making this change in response to public requests for an extension of the comment period. Written comments should be submitted on or before April 18, 2022.

Amy B. Coyle,
Deputy General Counsel.

[FR Doc. 2022-05569 Filed 3-15-22; 8:45 am]

BILLING CODE 3325-F2-P